DEPARTMENT OF ENERGY

Federal Energy Regulatory Commission

[Project No. 5596-020]

Town of Bedford, Virginia; Notice of Application Accepted for Filing and Soliciting Motions To Intervene and Protests

Take notice that the following hydroelectric application has been filed with the Commission and is available for public inspection.

a. Type of Application: New Major License.

b. Project No.: 5596-020.

c. Date filed: April 30, 2021.

d. Applicant: Town of Bedford, Virginia.

e. Name of Project: Bedford Hydroelectric Project.

f. Location: On the James River in the town of Bedford in Bedford and Amherst counties, Virginia. The project does not affect federal land.

g. Filed Pursuant to: Federal Power Act, 16 U.S.C. 791(a)-825(r).

h. Applicant Contact: M. Scott Salmon, Electric Systems Engineer, Town of Bedford Electric Department, 877 Monroe Street, Bedford, Virginia 24523; (540) 587-6079 or msalmon@bedfordva.gov.

i. FERC Contact: Andy Bernick at (202) 502-8660, or andrew.bernick@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Bedford Hydroelectric Project (P-5596-020).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The current license for the Bedford Hydroelectric Project (Bedford Project) authorizes the following project facilities: (1) A 9- to 17-foot-high concrete gravity dam with a 1,680-foot-long concrete spillway; (2) a 57-acre impoundment with a storage capacity of 350 acre-feet at the normal maximum water surface elevation of 628.0 feet above mean sea level; (3) a 1,200-foot-long, 180-foot-wide, 16-foot-deep power canal; (4) a power canal headgate composed of three 21.6-foot-wide, 15.9-foot-high steel gates; (5) a 49.1-foot-wide, 29.02-foot-high steel trashrack with a clear bar spacing of 3.5-inches; (6) a 55-foot-long, 80-foot-wide powerhouse; (7) a 65-foot-long, 120-foot-wide tailrace; (8) two 2.5-megawatt (MW) turbine-generator units with a total capacity of 5.0 MW; (9) a 110-foot-long, 2.4-kilovolt (kV) generator lead, and a 180-foot-long, 4.16-kV generator lead; (10) two 2.4/22.9-kV, 0.600-megavolt-ampere (MVA) three-phase step-up transformers, and two 4.16/22.9-kV, 3.75 MVA three-phase step-up transformers; (11) a 2,800-foot-long, 33.9-kilovolt primary transmission line; and (12) appurtenant facilities.

The Town of Bedford's proposed project facilities would revise the project's electrical infrastructure to include a 4.0-kilovolt, 120-foot-long underground transmission line from the powerhouse to the project substation; and two 3.75-megavolt-ampere step-up transformers. In addition, the Town of Bedford proposes to remove the 2,800-foot-long transmission line as it is no longer the project's primary transmission line.

The Bedford Project is operated in run-of-river mode. The average annual generation is estimated to be 1,114.75 megawatt-hours.

m. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—January 2022

Request Additional Information (if necessary)—February 2022

Issue Scoping Document 2 (if necessary)—March 2022

Issue Notice of Ready for Environmental Analysis—October 2022

Dated: September 9, 2021.
Kimberly D. Bose,
Secretary.

[FR Doc. 2021-19899 Filed 9-14-21; 8:45 am]

BILLING CODE 6717-01-P